DEPARTMENT OF COMMERCE

International Trade Administration

[A-570-806]

Silicon Metal From the People's Republic of China: Notice of Second Extension of Time Limit for the Final Results of the 2007-2008 Administrative Review

AGENCY: Import Administration, International Trade Administration, Department of Commerce.

EFFECTIVE DATE: December 1, 2009.

FOR FURTHER INFORMATION CONTACT: Jerry Huang, Susan Pulongbarit, or Bobby Wong, AD/CVD Operations, Office 9, Import Administration, International Trade Administration, U.S. Department of Commerce, 14th Street and Constitution Avenue, NW, Washington, DC 20230; telephone (202) 482-4047, (202) 482-4031, or (202) 482-0409, respectively.

SUPPLEMENTARY INFORMATION:

Background

On July 9, 2009, the Department of Commerce (“Department”) published in the Federal Register the preliminary results of the 2007-2008 administrative review of the antidumping duty order on silicon metal from the People's Republic of China (“PRC”), covering the period June 1, 2007, through May 31, 2008. See Silicon Metal from the People's Republic of China: Preliminary Results and Preliminary Rescission, in Part, of Antidumping Duty Administrative Reviews, 74 FR 32,885 (July 9, 2009). On October 29, 2009, the Department published a notice extending the deadline for the final results of the 2007-2008 administrative review of silicon metal from the PRC. See Silicon Metal from the People's Republic of China: Notice of Extension of Time Limit for the Final Results of the 2007-2008 Administrative Review, 74 FR 55,811 (October 29, 2009). The final results are currently due no later than December 7, 2009.

Extension of Time Limit for the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published. On October 29, 2009, the Department extended the deadline of the final results by 31 days. Thus, the Department may extend the deadline of the final results by an additional 29 days.

The Department requires additional time to properly consider the issues raised by interested parties regarding the treatment of Export Tax, Value-Added Tax, surrogate values for factors of production, and numerous company-specific issues. Thus, it is not practicable to complete this review by December 7, 2009. Therefore, the Department is extending the time limit for completion of the final results of this review by an additional 29 days, in accordance with section 751(a)(3)(A) of the Act. The final results are now due no later than January 5, 2010.

We are issuing and publishing this notice in accordance with sections 751(a)(1) and 777(i)(1) of the Act.

Dated: November 24, 2009.
John M. Andersen,
Deputy Assistant Secretary for Antidumping and Countervailing Duty Operations.

[FR Doc. E9-28778 Filed 11-30-09; 8:45 am]

BILLING CODE 3510-DS-S